ENVIRONMENTAL PROTECTION AGENCY

[FRL-9194-6]

Final Notice of Data Availability Concerning 2010 CAIR NOX Annual Trading Program New Unit Set-Aside Allowance Allocations Under the Clean Air Interstate Rule Federal Implementation Plan

AGENCY: Environmental Protection Agency (EPA).

ACTION: Notice of data availability (NODA).

SUMMARY: EPA is administering—under the Clean Air Interstate Rule (CAIR) Federal Implementation Plans (FIPs)—the CAIR NOX Annual Trading Program (CAIRNOX) new unit set-aside allowance pools for Delaware and the District of Columbia. The CAIRNOX FIPs require the Administrator to determine each year by order the allowance allocations from the new unit set-aside for units in these jurisdictions whose owners and operators requested these allocations and to provide the public with the opportunity to object to the allocation determinations. On June 29, 2010, EPA issued a NODA setting forth such determinations for 2010 in the Federal Register and provided an opportunity for submission of objections. Through the NODA issued today, EPA is making available to the public the Agency's determinations, after considering all objections, of CAIRNOX allowance allocations and denials of such allocations for 2010 under the FIPs, as well as the data upon which the allocations and denials of allocations were based.

DATES: Under § 97.153(e), EPA must record, by December 1, 2010, the CAIRNOX new unit set-aside allowance allocations, consistent with this NODA, in the compliance accounts of units whose owners and operators successfully applied for a CAIRNOX new unit set-aside allowance allocation under the CAIR FIPs. See 40 CFR 97.153(e).

FOR FURTHER INFORMATION CONTACT: Questions concerning this action should be addressed to Robert L. Miller, U.S. Environmental Protection Agency, CAMD (6204J), 1200 Pennsylvania Ave., NW., Washington, DC 20460, telephone (202) 343-9077, and e-mail miller.robertl@epa.gov.

SUPPLEMENTARY INFORMATION: For more background and information regarding the purpose of the NODA, requirements for requesting and receiving CAIRNOX new unit set-aside allowances under the CAIR FIPs, procedures for allocating such allowances, application of requirements to individual CAIRNOX new unit set-aside allocation requests, and interpretation of the data upon which the CAIRNOX new unit set-aside allocations for 2010 and denials of allocations were based, see the June 29, 2010 NODA (75 Fed. Reg. 37433, June 29, 2010).

EPA received no objections to the determinations and data in the June 29, 2010 NODA. Therefore, EPA adopts the CAIRNOX new unit set-aside allocations set forth in the June 29, 2010 NODA.

EPA is not requesting objections to the data provided in this final NODA. This action constitutes a final action for determining the CAIRNOX new unit set-aside allowance allocations under § 97.142 and the CAIR FIPs for 2010.

Dated: August 20, 2010.
Drusilla Hufford,
Acting Director, Office of Atmospheric Programs.

[FR Doc. 2010-21547 Filed 8-27-10; 8:45 am]

BILLING CODE 6560-50-P